DEPARTMENT OF AGRICULTURE

Forest Service

Kenai Peninsula-Anchorage Borough Resource Advisory Committee

AGENCY: Forest Service, USDA.

ACTION: Notice of meeting.

SUMMARY: The Kenai Peninsula-Anchorage Borough Resource Advisory Committee will meet in Girdwood, Alaska. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is for the monitoring of current projects. If authorized by the meeting time, RAC members will review new projects and make recommendations to the Forest Service.

DATES: The meeting will be held on September 15, 2012, 10:00 a.m.

ADDRESSES: The meeting will be held at Begich Boggs Visitor Center, 800 Portage Lake Loop, Portage, Alaska. If you are not able to meet in person, you can still participate via teleconference, by calling in at (888) 858-2144, then enter access code 1331636. Written comments may be submitted as described under Supplementary Information. All comments, including names and addresses when provided, are placed in the record and are available for public inspection and copying. The public may inspect comments received at Glacier Ranger District, 145 Forest Station Road, Girdwood, AK 99587. Please call ahead to (907) 783-3242 to facilitate entry into the building to view comments.

FOR FURTHER INFORMATION CONTACT: Bobbie Jo Skibo, RAC Coordinator, Seward Ranger District, (907) 288-7739, TTY/Voice: (907) 743-9475, bskibo@fs.fed.us. Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accommodation for access to the facility or proceedings by contacting the person listed For Further Information.

SUPPLEMENTARY INFORMATION: The following business will be conducted: Monitoring of current projects and reviewing and recommending new projects if authorized by the meeting time. For more information: https://fsplaces.fs.fed.us/fsfiles/unit/wo/secure_rural_schools.nsf. Anyone who would like to bring related matters to the attention of the committee may file written statements with the committee staff before or after the meeting. The agenda will include time for people to make oral statements of three minutes or less after RAC discussion of each proposal. Written comments must be sent to Glacier Ranger District, Tim Charnon, District Ranger, P.O. Box 129, Girdwood, AK 99587, or by email to tcharnon@fs.fed.us, or via facsimile to (907) 783-2094.

A summary of the meeting will be posted at https://fsplaces.fs.fed.us/fsfiles/unit/wo/secure_rural_schools.nsf within 21 days of the meeting.

Dated: July 30, 2012.
Terri Marceron,
Forest Supervisor.

[FR Doc. 2012-19246 Filed 8-6-12; 8:45 am]

BILLING CODE 3410-11-P